ENVIRONMENTAL PROTECTION AGENCY

[OPP-2004-0051; FRL-7346-4]

Pesticide Emergency Exemptions; Agency Decisions and State and Federal Agency Crisis Declarations

AGENCY: Environmental Protection Agency (EPA).

ACTION: Notice.

SUMMARY: EPA has granted or denied emergency exemptions under the Federal Insecticide, Fungicide, and Rodenticide Act (FIFRA) for use of pesticides as listed in this notice. The exemptions or denials were granted during the period October 2003, to December 2003, to control unforseen pest outbreaks.

FOR FURTHER INFORMATION CONTACT: See each emergency exemption or denial for the name of a contact person. The following information applies to all contact persons: Team Leader, Emergency Response Team, Registration Division (7505C), Office of Pesticide Programs, Environmental Protection Agency, 1200 Pennsylvania Ave., NW., Washington, DC 20460-0001; telephone number: (703) 308-9366.

SUPPLEMENTARY INFORMATION: EPA has granted or denied emergency exemptions to the following State and Federal agencies. The emergency exemptions may take the following form: Crisis, public health, quarantine, or specific. EPA has also listed denied emergency exemption requests in this notice.

I. General Information

A. Does this Action Apply to Me?

You may be potentially affected by this action if you are an agricultural producer, food manufacturer, or pesticide manufacturer. Potentially affected entities may include, but are not limited to:

• Crop production (NAICS 111)

• Animal production (NAICS 112)

• Food manufacturing (NAICS 311)

• Pesticide manufacturing (NAICS 32532)

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Get Copies of this Document and Other Related Information?

1. Docket. EPA has established an official public docket for this action under docket identification (ID) number OPP-2004-0051. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. Background

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are a particular form of specific exemption issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption or denial, the type of exemption, the pesticide authorized and the pests, the crop or use for which authorized, number of acres (if applicable), and the duration of the exemption. EPA also gives the Federal Register citation for the time-limited tolerance, if any.

III. Emergency Exemptions and Denials

A. U. S. States and Territories

Arkansas

State Plant Board

Crisis: On August 29, 2003, for the use of spinosad on pastureland and rangeland to control armyworms. This program ended on December 31, 2003. Contact: (Andrew Ertman)

Specific: EPA authorized the use of spinosad on pastureland and rangeland to control armyworms; August 29, 2003 to December 31, 2003. Contact: (Andrew Ertman)

California

Environmental Protection Agency, Department of Pesticide Regulation

Specific: EPA authorized the use of pyriproxyfen on strawberry to control whiteflies; December 12, 2003 to December 12, 2004. Contact: (Andrea Conrath)

Specific: EPA authorized the use of abamectin on spinach to control leafminer; December 23, 2003 to December 23, 2004. Contact: (Libby Pemberton)

Delaware

Department of Agriculture

Specific: EPA authorized the use of thiophanate methyl on mushroom to control green mold; December 16, 2003 to December 16, 2004. Contact: (Andrea Conrath)

Florida

Department of Agriculture and Consumer Services

Specific: EPA authorized the use of thymol on beehives to control varroa mites; November 6, 2003 to November 8, 2004. Contact: (Stacey Milan Groce)

Georgia

Department of Agriculture

Specific: EPA authorized the use of thymol on beehives to control varroa mites; October 14, 2003 to December 31, 2003. Contact: (Stacey Milan Groce)

Specific: EPA authorized the use of flufenacet on wheat to control ryegrass; October 27, 2003 to December 31, 2003. Contact: (Andrew Ertman)

Maryland

Department of Agriculture

Specific: EPA authorized the use of thymol on beehives to control varroa mites; October 14, 2003 to December 31, 2003. Contact: (Stacey Milan Groce)

Specific: EPA authorized the use of thiophanate methyl on mushroom to control green mold; December 30, 2003 to December 30, 2004. Contact: (Andrea Conrath)

Mississippi

Department of Agriculture and Commerce

Specific: EPA authorized the use of niclosamide on catfish ponds to control ram's horn snail; December 31, 2003 to December 31, 2004. Contact: (Stacey Milan Groce)

Nebraska

Department of Agriculture

Specific: EPA authorized the use of tebuconazole on field corn seed to control head smut; December 22, 2003 to May 30, 2004. Contact: (Libby Pemberton)

New Jersey

Department of Environmental Protection

Denial: On October 3, 2003, EPA denied a specific exemption request for the use of propamocarb hydrochloride on tomatoes to control late blight. This request was denied because available alternatives are expected to be sufficient to avert emergency losses. Concurrently, a crisis exemption which was declared by New Jersey on August 21, 2003, for this use was revoked. Contact: (Libby Pemberton)

North Carolina

Department of Agriculture

Specific: EPA authorized the use of flufenacet on wheat to control ryegrass; October 14, 2003 to December 31, 2003. Contact: (Andrew Ertman)

Pennsylvania

Department of Agriculture

Specific: EPA authorized the use of thiophanate methyl on mushroom to control green mold; December 16, 2003 to December 16, 2004. Contact: (Andrea Conrath)

South Carolina

Clemson University

Specific: EPA authorized the use of flufenacet on wheat to control ryegrass; November 20, 2003 to January 31, 2004. Contact: (Andrew Ertman)

Virginia

Department of Agriculture and Consumer Services

Specific: EPA authorized the use of flufenacet on wheat to control ryegrass; October 16, 2003 to March 31, 2004. Contact: (Andrew Ertman)

Wisconsin

Department of Agriculture, Trade, and Consumer Protection

Crisis: On March 28, 2003, for the use of imidacloprid on soybean seed to control bean leaf beetles. This program ended on April 30, 2003. Contact: (Andrew Ertman)

List of Subjects

Environmental protection, Pesticides and pest.

Dated: March 4, 2004.
Lois Rossi,
Director, Registration Division, Office of Pesticide Programs.

[FR Doc. E4-551 Filed 3-16-04; 8:45 am]

BILLING CODE 6560-50-S